DEPARTMENT OF LABOR

Employment and Training Administration

[TA-W-80,213]

Healthlink, a Wellpoint, Inc. Company, Accounts Receivable and Collections Division, St. Louis, MO; Notice of Negative Determination Regarding Application for Reconsideration

By application received July 14, 2011, a worker requested administrative reconsideration of the negative determination regarding workers' eligibility to apply for Trade Adjustment Assistance (TAA) applicable to workers and former workers HealthLink, a Wellpoint, Inc. Company, Accounts Receivable and Collections Division, St. Louis, Missouri (HealthLink-Accounts Receivable Collections Division). The negative determination was issued on June 21, 2011. The Department's Notice of Determination was published in the Federal Register on July 8, 2011 (76 FR 40402). The workers of HealthLink-Accounts Receivable Collections Division are engaged in activities related to the supply of health insurance services: Accounts payable and collections services.

The petition was filed on behalf of “finance” workers at HealthLink, St. Louis, Missouri (HealthLink). The petition states that the service supplied by HealthLink is a “network of providers through contracts to payors—insurers and third party administrators” and that “production has been/is being sent to India and services are being outsourced to India.”

The negative determination was based on the Department's findings that HealthLink does not produce an article within the meaning of Section 222(a) or Section 222(b) of the Act. In order to be considered eligible to apply for adjustment assistance under Section 223 of the Trade Act of 1974, the worker group seeking certification (or on whose behalf certification is being sought) must work for a “firm” or appropriate subdivision that produces an article.

In the request for reconsideration, the petitioner asserts that subject worker group separations were due to a shift to India and stated that “other Wellpoint petitions for several other locations of Financial Operation departments” have worker groups eligible to apply for TAA.

The determinations referenced in the request for reconsideration are Wellpoint, Inc., Financial Operations Recovery Department (TA-W-74,661 through TA-W-74,661H; issued on January 7, 2011).

Workers covered by TA-W-74,661 were eligible to apply for worker adjustment assistance because the worker group eligibility requirements of the Trade and Globalization Adjustment Assistance Act of 2009 (Trade Act of 2009) was satisfied. Specifically, the Department determined that there was a shift by the workers' firm to a foreign country in the supply of services like or directly competitive with those supplied by the workers' firm and that the shift of services abroad contributed importantly to worker group separations.

Pursuant to 29 CFR 90.18(c), administrative reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

After the Trade Act of 2009 expired in February 2011, petitions for TAA were instituted under the Trade Adjustment Assistance Reform Act of 2002 (Trade Act of 2002). Therefore, the statute applicable to TA-W-80,213 is the Trade Act of 2002. The applicable regulation is codified in 29 CFR 90, subpart B.

Section 222 of the Trade Act of 2002 establishes the worker group eligibility requirements. The requirements include either “imports of articles like or directly competitive with articles produced by such firm or subdivision have increased” or “a shift in production by such workers' firm or subdivision to a foreign country of articles like or directly competitive with articles which are produced by such firm or subdivision.”

The request for reconsideration asserts that workers separated at the HealthLink, St. Louis, Missouri facility are similar to workers covered by “other locations of Financial Operation departments that have been approved.”

The certification for TA-W-74,661 was issued based on the Department's findings that the workers' firm supplied a service and that the supply of services was shifted to a foreign country. The shift of services that was the basis for certification under the Trade Act of 2009 cannot be the basis for certification under the Trade Act of 2002 because the two statutes have different worker group eligibility criteria.

After careful review of the request for reconsideration, previously submitted materials, the applicable statute, and relevant regulation, the Department determines that there is no new information, mistake in fact, or misinterpretation of the facts or of the law.

Conclusion

After review of the application and investigative findings, I conclude that there has been no error or misinterpretation of the law or of the facts which would justify reconsideration of the Department of Labor's prior decision. Accordingly, the application is denied.

Signed at Washington, DC this 18th day of August, 2011.
Del Min Amy Chen,
Certifying Officer, Office of Trade Adjustment Assistance.

[FR Doc. 2011-22552 Filed 9-1-11; 8:45 am]

BILLING CODE 4510-FN-P